ENVIRONMENTAL PROTECTION AGENCY

40 CFR Part 52

[EPA-R05-OAR-2022-0442; FRL-10601-01-R5]

Air Plan Approval; Ohio; Volatile Organic Compounds

AGENCY: Environmental Protection Agency (EPA).

ACTION: Proposed rule.

SUMMARY: Under the Clean Air Act (CAA), the Environmental Protection Agency (EPA) is proposing to approve a May 12, 2022, State Implementation Plan (SIP) submittal from the Ohio Environmental Protection Agency (OEPA). This SIP submittal consists of a source-specific limitation for certain process lines at Forest City Technologies, Plant 4, in Wellington, Ohio. The source-specific limitation reflects the lowest rate possible for the facility given technological and cost considerations. The source-specific limitation is established through the Ohio SIP, per the Ohio Administrative Code (OAC), and listed as an enforceable condition in the facility's operating permit, issued by OEPA on June 23, 2020.

DATES: Comments must be received on or before September 13, 2023.

ADDRESSES: Submit your comments, identified by Docket ID No. EPA-R05-OAR-2022-0442 at https://www.regulations.gov, or via email to blakley.pamela@epa.gov. For comments submitted at Regulations.gov, follow the online instructions for submitting comments. Once submitted, comments cannot be edited or removed from Regulations.gov. For either manner of submission, EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, please contact the person identified in the FOR FURTHER INFORMATION CONTACT section. For the full EPA public comment policy, information about CBI or multimedia submissions, and general guidance on making effective comments, please visit https://www2.epa.gov/dockets/commenting-epa-dockets.

FOR FURTHER INFORMATION CONTACT: Anthony Maietta, Environmental Protection Specialist, Control Strategies Section, Air Programs Branch (AR-18J), Environmental Protection Agency, Region 5, 77 West Jackson Boulevard, Chicago, Illinois 60604, (312) 353-8777, maietta.anthony@epa.gov. The EPA Region 5 office is open from 8:30 a.m. to 4:30 p.m., Monday through Friday, excluding Federal holidays and facility closures due to COVID-19.

SUPPLEMENTARY INFORMATION: Throughout this document whenever “we,” “us,” or “our” is used, we mean EPA.

I. What is the background for this action?

On October 30, 2020, EPA approved OAC 3745-21-28(C)(4) into the Ohio SIP which allows for the establishment of source-specific volatile organic compound (VOC) emissions limits for industrial adhesive and sealant application units when the otherwise applicable emission limit is determined to be technically and/or economically infeasible. This rule provides specific conditions for Ohio to determine and approve source-specific VOC reasonably available control technology (RACT) emissions limits for production of miscellaneous industrial adhesives and sealants on a case-by-case basis. The source-specific VOC limit is established as an emissions rate or overall percent reduction, typically specified in the facility's final permit-to-install or permit-to-install and operate.

There are several criteria necessary for establishing the source-specific VOC limit under OAC 3745-21-28(C)(4). OEPA must make a determination that the otherwise applicable VOC limit is technically or economically infeasible. The source-specific VOC limit must be the lowest rate possible considering technological and economic feasibility for the process involved. The source-specific VOC limit must then be approved by the EPA into the Ohio SIP.

On June 23, 2020, Ohio determined that Forest City Technologies' encapsulated adhesive coating process equipment met the criteria for a source-specific VOC limit. In the time between renewal of the operating permit for Forest City Technologies, Ohio EPA adopted a VOC RACT limit of 0.3 pounds per gallon (lb/gal) into the Ohio SIP in Table 1 of OAC 3745-21-28(C)(1) for adhesives applied to a metal substrate. The 0.3 lb/gal VOC RACT limit reflects the limit identified in EPA's Control Techniques Guidelines (CTG) for Miscellaneous Industrial Adhesives, specifically for the category of “adhesives applied to a metal substrate”. The VOC RACT limit was determined to be the closest existing category comparable to the encapsulated adhesive coatings manufactured at Forest City Technologies. Subsequently, when renewing their operating permit, Forest City Technologies indicated to Ohio that because of technical and economic infeasibility, it was not able to meet a 0.3 pounds per gallon (lb/gal) VOC RACT limit.

As discussed in the next section, EPA finds that in its June 23, 2020, determination, Ohio adhered to the SIP-approved criteria in OAC 3745-21-28(C)(4) to establish a source-specific emission limit for the encapsulated adhesive coating process at Forest City Technologies.

II. What is EPA's analysis of the source-specific VOC SIP limit?

Forest City Technologies is a manufacturer of encapsulated adhesive-coated screws and fasteners, primarily for the automotive industry, located in Lorain County. The encapsulated adhesive-coated screws and fasteners meet materials specifications set forth by the company's automotive manufacturing and OEM auto parts manufacturing customers related to safety, based on the screws' ability to remain secured to metal automotive components. The encapsulated adhesive-coated screws and fasteners use the mechanical force of securing the screws and fasteners to break the encapsulation, adhering them to the metal automotive components. The encapsulated adhesive coating helps ensure that the screws stay secured longer than uncoated screws under stress and load situations that automobiles and OEM automotive parts are subject to during use.

The safety and application specifications from Forest City Technologies' customers limit the company's ability to meet the 0.3 lb/gal VOC RACT limit for adhesives applied to a metal substrate. If Forest City were to meet the 0.3 lb/gal VOC RACT limit, the adhesive would not meet its customers specifications. Additionally, the 2008 miscellaneous industrial adhesives CTG did not consider an encapsulated adhesive coating product at the time. However, discussions between industry and EPA determined that the 0.3 lb/gal VOC RACT limit in OAC 3745-21-28(C)(1) for adhesives applied to a metal substrate is the closest existing category comparable to the encapsulated adhesive coatings manufactured at Forest City Technologies. Therefore, Forest City Technologies requested a source-specific VOC limit and provided Ohio with the information necessary to make such a determination.

Ohio considered that Forest City Technologies is a smaller facility; even with a potential to emit up to 65.5 tons per year of VOC, the actual VOC emissions from the facility were no greater than 5.533 tons per year for the most recent 5-year period of emissions reported to Ohio at the time of the source-specific limit request.

As part of its request for a source-specific limit, Forest City Technologies determined the cost effectiveness of installing control equipment to meet the 0.3 lb/gal VOC RACT limit for adhesives applied to a metal substrate, and submitted it to Ohio. The cost effectiveness review shows that at the facility's full potential-to-emit, the cost to control VOC from the encapsulated adhesive process using the lowest-VOC raw materials available to meet their customers' specifications as approximately $12,750 per ton, well over Ohio's VOC RACT consideration level of $5,500 per ton.

After reviewing information from Forest City Technologies about the materials used in the encapsulated adhesive coating process, Ohio determined that Forest City Technologies is able to utilize an adhesive that would limit VOC emissions to a rate of 1.91 lb/gal when utilized in the process. The adhesive would also satisfy the specifications for Forest City Technologies' customers. The adhesive was not subject to any Ohio VOC rules at the time, adding further consideration to a source-specific limit for the facility.

By considering the unique nature of the encapsulated adhesive process, the financial considerations for the facility, and the technological limitations for the manufacturing materials, Ohio determined that the lowest source-specific VOC RACT emissions rate possible for Forest City Technologies is 1.91 lb/gal, excluding water and exempt solvents.

Ohio approved the 1.91 lb/gal source-specific VOC limit for Forest City Technologies by issuing a final operating permit to the facility on June 23, 2020. The final permit contains the source-specific VOC RACT limit of 1.91 lb/gal for the Dip Spin Unit #2 with drying oven (unit K010) at paragraph C.1.b)(1)e., and for the Emissions Unit Group-Coaters ¹ at Paragraph C.2.B)(1)e.. The final operating permit contains testing requirements for compliance with the source-specific limit at Paragraph C.1.f)(1)d. for the Dip Spin Unit #2 with drying oven, and at Paragraph C.2.f)(1)d. for the Emissions Unit Group-Coaters.

¹ Emissions Unit Group—Coaters consists of units K007, K009, K014, K015, K016, K017, K018, K019, K020, K021, K022, K023, K024, K025, K026, K028, K029, K030, K031, K032, K033, K034, K036, K037, and K051 at the Forest City Technologies facility.

The final operating permit also contains recordkeeping and reporting requirements for the Dip Spin Unit #2 with drying oven at Paragraph C.1.d)(3) and Paragraph C.1.e)(1)c.. The recordkeeping and reporting requirements for the Emissions Unit Group-Coaters are located at Paragraph C.2.d)(4) and Paragraph C.2.e)(3)b. of the final Forest City Technologies permit.

In its May 12, 2022, submittal, Ohio states that it provided opportunity for public participation on its proposed approval of a source-specific VOC emission limit for Forest City Technologies contained in the operating permit for the facility. The comment period for the proposed approval opened on May 15, 2020, and ended on June 14, 2020. No comments were received.

Based on its review of Ohio's May 12, 2022, submittal, EPA finds that the source-specific VOC limit of 1.91 lb/gal, excluding water and exempt solvents is RACT for the applicable process lines at Forest City Technologies and is approving that limit, as contained in the June 23, 2020, operating permit issued by Ohio, into the Ohio SIP. EPA finds that the source-specific VOC RACT limits are consistent with the requirements of 110(l) of the CAA because the source-specific limits were incorporated through Ohio EPA's existing SIP mechanism, which is outlined at OAC 3745-21-28(c)(4). This revision is not a relaxation to the SIP and therefore will not interfere with any applicable requirement concerning attainment and reasonable further progress, or any other applicable requirement of the CAA. EPA also finds that the testing, reporting, and recordkeeping requirements for Forest City Technologies contained in the June 23, 2020, operating permit are approvable into the Ohio SIP.

III. What action is EPA taking?

EPA is proposing to approve the addition of paragraphs C.1.b)(1)e., C.1.d)(3), C.1.e)(1)c., C.1.f)(1)d., C.2.b)(1)e., C.2.d)(4), C.2.e)(3)b., and C.2.f)(1)d. as listed in the June 23, 2020, operating permit for Forest City Technologies into Ohio's SIP.

IV. Incorporation by Reference

In this rule, EPA is proposing to include in a final EPA rule regulatory text that includes incorporation by reference. In accordance with requirements of 1 CFR 51.5, EPA is proposing to incorporate by reference certain provisions of the Ohio Division of Air Pollution Control Permit-to-Install and Operate for Forest City Technologies Plant 4, effective June 23, 2020, as described in Section III. of this preamble. EPA has made, and will continue to make, these documents generally available through www.regulations.gov and at the EPA Region 5 Office (please contact the person identified in the FOR FURTHER INFORMATION CONTACT section of this preamble for more information).

V. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993), 13563 (76 FR 3821, January 21, 2011), and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of section 12(d) of the National Technology Transfer and Advancement Act of 1995 (15 U.S.C. 272 note) because application of those requirements would be inconsistent with the CAA.

In addition, the SIP is not approved to apply on any Indian reservation land or in any other area where EPA or an Indian tribe has demonstrated that a tribe has jurisdiction. In those areas of Indian country, the rule does not have Tribal implications and will not impose substantial direct costs on Tribal governments or preempt Tribal law as specified by Executive Order 13175 (65 FR 67249, November 9, 2000).

Executive Order 12898 (Federal Actions To Address Environmental Justice in Minority Populations and Low-Income Populations, 59 FR 7629, February 16, 1994) directs Federal agencies to identify and address “disproportionately high and adverse human health or environmental effects” of their actions on minority populations and low-income populations to the greatest extent practicable and permitted by law. EPA defines environmental justice (EJ) as “the fair treatment and meaningful involvement of all people regardless of race, color, national origin, or income with respect to the development, implementation, and enforcement of environmental laws, regulations, and policies.” EPA further defines the term fair treatment to mean that “no group of people should bear a disproportionate burden of environmental harms and risks, including those resulting from the negative environmental consequences of industrial, governmental, and commercial operations or programs and policies.”

OEPA did not evaluate environmental justice considerations as part of its SIP submittal; the CAA and applicable implementing regulations neither prohibit nor require such an evaluation. EPA did not perform an EJ analysis and did not consider EJ in this action. Consideration of EJ is not required as part of this action, and there is no information in the record inconsistent with the stated goal of E.O. 12898 of achieving environmental justice for people of color, low-income populations, and Indigenous peoples.

List of Subjects in 40 CFR Part 52

Environmental protection, Air pollution control, Incorporation by reference, Intergovernmental relations, Reporting and recordkeeping requirements, Volatile organic compounds.

Dated: August 8, 2023.
Debra Shore,
Regional Administrator, Region 5.

[FR Doc. 2023-17337 Filed 8-11-23; 8:45 am]

BILLING CODE 6560-50-P